CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed Senior Corps RSVP Notice Of Funding Opportunity Non-applicant Study. The study involves two data collection phases. Phase I is a survey of individuals representing organizations, non-profits, and public agencies that are (1) current applicants, (2) current non-applicants, and (3) potential applicants for the RSVP Notice of Funding Opportunity. Phase II involves in-depth interviews with a range of stakeholders that includes individuals who administer grants, administer non-profits and public agencies applying for RSVP grants and representatives of state commissions.

The survey and interviews are designed to allow CNCS Senior Corps administrators to understand how grantees and potential grantees view the application process, what factors are important in the decision to apply, and how the NOFO can be written to generate a higher response rate from potential grant applicants.

Copies of the information collection request can be obtained by contacting the office listed in the Addresses section of this notice.

DATES: Written comments must be submitted to the individual and office listed in the ADDRESSES section by March 4, 2014.

ADDRESSES: You may submit comments, identified by the title of the information collection activity, by any of the following methods:

(1) By mail sent to: Corporation for National and Community Service, Senior Corps Program; Attention Anthony Nerino, Research Associate, Office #10913A; 1201 New York Avenue NW., Washington, DC 20525.

(2) By hand delivery or by courier to the CNCS mailroom at Room 6010 at the mail address given in paragraph (1) above, between 9:00 a.m. and 4:00 p.m. Eastern Time, Monday through Friday, except Federal holidays.

(3) Electronically through the Corporation's email system to anerino@cns.gov.

Individuals who use a telecommunications device for the deaf (TTY-TDD) may call 1-800-833-3722 between 8:00 a.m. and 8:00 p.m. Eastern Time, Monday through Friday.

FOR FURTHER INFORMATION CONTACT: Anthony Nerino, (202-606-3913), or by email at anerino@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS has contracted with GMMB and Freedman Consulting LLC to implement a study of the RSVP grant application process in order to better understand the positive and prohibitive factors associated with the Retired and Senior Volunteer Program Notice of Funding Opportunity application process. This project involves a survey of grant applicants, non-applicants and potential applicants for the 2013 RSVP NOFO. Additionally the study involves a series of brief interviews with various stakeholders in the application process to augment and assist in understanding the survey results.

Potential survey respondents will be drawn from three sources; current applicants, potential applicants that filed a notice of intent to apply but did not file a grant application, and potential applicants (non-profits and public agencies) that have not yet applied or filed notice of intent letter.

Potential interview respondents will include grant applicant stakeholders including grant managers, non-profit and public agency administrators.

Survey data will be collected using an on-line survey program. Interview data will be collected via taped and written responses to telephone conversations.

Data analysis will focus on identifying and understanding factors associated with the decision to apply, factors associated with the decision to not apply, and perceived and real barriers to completing the grant application. Quantitative data analysis will include descriptive statistics and inferential analysis of survey responses by respondent and organization characteristics.

Current Action: CNCS seeks public comment on a new data collection instrument and a set of interview questions developed for this project. The instrument and interview questionnaire is being designed by the contractor for this project.

Type of Review: New.

Agency: Corporation for National and Community Service.

Title: Retired and Senior Volunteer Program NOFO Non-applicant Study.

OMB Number: None.

Agency Number: None.

Affected Public: RSVP Grant Applicants and Potential Applicants.

Total Respondents: Written Surveys 300. Interviews 40.

Frequency: One time.

Average Time per Response: 30 minutes.

Respondent category | Number | Time (minutes) | Total hours
Survey Respondents | 300 | 30 | 150
Interview Participants | 40 | 30 | 20

Estimated Total Burden Hours: 170.

Total Burden Cost (capital/startup): None.

Total Burden Cost (operating/maintenance): None.

Comments submitted in response to this notice will be summarized and/or included in the request for Office of Management and Budget approval of the information collection request; they will also become a matter of public record.

Dated: December 27, 2013.
Erwin Tan,
Program Director, Senior Corps.

[FR Doc. 2013-31481 Filed 1-2-14; 8:45 am]

BILLING CODE 6050-28-P